SMALL BUSINESS ADMINISTRATION

Public Federal Regulatory Enforcement Fairness Hearing; Region V Small Business Regulatory Fairness Board

The U.S. Small Business Administration, Region V Small Business Regulatory Fairness Board and the SBA Office of the National Ombudsman will hold a public hearing on Friday, June 3, 2005, at 8:30 a.m. The public hearing will be held at the Rock Valley College “ Woodward Technology Center, 3301 North Mulford Road, Room 117, Rockford, IL 61114, phone (815) 921-2081, to receive comments and testimony from small business owners, small government entities, and small non-profit organizations concerning regulatory enforcement and compliance actions taken by federal agencies.

Anyone wishing to attend or to make a presentation must contact Gary Peele, in writing or by fax, in order to be put on the agenda. Gary Peele, Supervisory Marketing Specialist, SBA Illinois District Office, 500 West Madison Street, Chicago, IL 60661, phone (312) 353-7353, fax (202) 481-2031, e-mail: gary.peele@sba.gov.

For more information, see our Web site at http://www.sba.gov/ombudsman.

Matthew K. Becker,
Committee Management Officer.

[FR Doc. 05-9972 Filed 5-18-05; 8:45 am]

BILLING CODE 8025-01-P